DEPARTMENT OF COMMERCE

Foreign-Trade Zones Board

[Docket 54-2011]

Foreign-Trade Zone 72—Indianapolis, IN; Application for Manufacturing Authority, Brevini Wind USA, Inc., (Wind Turbine Gear Boxes), Yorktown, IN

A request has been submitted to the Foreign-Trade Zones Board (the Board) by the Indianapolis Airport Authority, grantee of FTZ 72, requesting manufacturing authority on behalf of Brevini Wind USA, Inc. (Brevini), to manufacture wind turbine gear boxes under FTZ procedures within FTZ 72. The application was submitted pursuant to the provisions of the Foreign-Trade Zones Act, as amended (19 U.S.C. 81a-81u), and the regulations of the Board (15 CFR part 400). It was formally filed on August 11, 2011.

The Brevini facility (approximately 400 employees, 20 acres) is located at 2400 Priority Way, within the Muncie Delaware County Park One Industrial Park in Yorktown, Indiana. The facility is used to manufacture and repair wind turbine gear boxes and related winches (up to 2,000 units of each per year) for the U.S. market and export. Components and materials sourced from abroad (representing 25% of the value of the finished products) include: parts of gear boxes, seals (rubber, metal), fasteners, pumps, filters, valves, bearings, shafts, gears, parts of gear boxes, clutches, brakes, cooling units, covers, discs, flanges, housings, sprockets, heating units, hoses, hydraulic parts, lubrication units, pinions, planet carriers, reduction stages, rotor lock discs, and electric motors (duty rate ranges from free to 5.8%).

FTZ procedures could exempt Brevini from customs duty payments on the foreign materials and components used in export production. The company anticipates that some 30 percent of the plant's shipments will be exported. On its domestic sales, Brevini would be able to choose the duty rates during customs entry procedures that apply to wind turbine gear boxes and winches (duty rates—free, 2.5%) for the foreign-origin inputs noted above. FTZ designation would further allow Brevini to realize logistical benefits through the use of weekly customs entry procedures. Customs duties also could possibly be deferred or reduced on foreign status production equipment. Brevini would also be exempt from duty payments on foreign inputs that become scrap during the production process. The application indicates that the savings from FTZ procedures would help improve the facility's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the address below. The closing period for receipt of comments is October 17, 2011. Rebuttal comments in response to material submitted during the foregoing period may be submitted during the subsequent 15-day period to November 1, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Pierre Duy at Pierre.Duy@trade.gov or (202) 482-1378.

Dated: August 11, 2011.
Andrew McGilvray,
Executive Secretary.

[FR Doc. 2011-21143 Filed 8-17-11; 8:45 am]

BILLING CODE P